DEPARTMENT OF COMMERCE

National Oceanic and Atmospheric Administration

RIN 0648-XG775

Fisheries of the Exclusive Economic Zone Off Alaska; Alaska Groundfish and Halibut Seabird Working Group; Public Meeting

AGENCY: National Marine Fisheries Service (NMFS), National Oceanic and Atmospheric Administration (NOAA), Commerce.

ACTION: Notice of public meeting.

SUMMARY: NMFS Alaska Groundfish and Halibut Seabird Working Group will meet to discuss use of leading indicators as tool to assess inseason seabird bycatch risk, vessel-specific seabird bycatch mortality, and an update on studies examining seabird bycatch in the trawl fisheries.

DATES: The meeting will be held on March 27, 2019, from 1 p.m. to 5 p.m., and on March 28, 2019, from 9 a.m. to 4 p.m., Alaska Daylight Time.

ADDRESSES: The meeting will be held at the NMFS Alaska Regional Office located at 709 W 9th St., Room 445C, Juneau, AK. Photo identification is required to enter this facility.

FOR FURTHER INFORMATION CONTACT: Anne Marie Eich, 907-586-7172.

SUPPLEMENTARY INFORMATION: The Alaska Groundfish and Halibut Seabird Working Group formed as a result of the 2015 biological opinion on effects of the Gulf of Alaska and Bering Sea/Aleutian Islands groundfish fisheries on short-tailed albatross. The working group is tasked with reviewing information for mitigating effects of the groundfish fisheries on short-tailed albatross and other seabirds. The workgroup will hold an in-person meeting in Juneau, Alaska on March 27 and 28, 2019. Meeting topics include the use of leading indicators as tool to assess inseason seabird bycatch risk, vessel-specific seabird bycatch mortality, and an update on studies examining seabird bycatch in the trawl fisheries. NMFS will keep the North Pacific Fishery Management Council (Council) apprised of the working group's activities and any resulting recommendations for methods to reduce seabird bycatch. Any changes to seabird avoidance regulations are expected to follow the standard Council process.

Special Accommodations

This workshop will be physically accessible to people with disabilities. Requests for sign language interpretation or other auxiliary aids should be directed to Anne Marie Eich, 907-586-7172, at least 5 working days prior to the meeting date.

Dated: February 15, 2019.
Karen H. Abrams,
Acting Director, Office of Sustainable Fisheries, National Marine Fisheries Service.

[FR Doc. 2019-03013 Filed 2-21-19; 8:45 am]

BILLING CODE 3510-22-P